FEDERAL TRADE COMMISSION

16 CFR Parts 1 and 311

Federal Civil Penalties Inflation Adjustment Act of 1990; and Debt Collection Improvement Act of 1996

AGENCY: Federal Trade Commission (FTC).

ACTION: Final rule amendments.

SUMMARY: These rule amendments adjust the dollar amounts of civil penalties under statutes within the FTC's jurisdiction to reflect inflation that has occurred since the Commission last made such inflation adjustments in 1996.

EFFECTIVE DATE: November 20, 2000.

FOR FURTHER INFORMATION CONTACT: Alex Tang, Attorney, Office of General Counsel, FTC, 600 Pennsylvania Avenue, NW, Washington, DC 20580, (202) 326-2447, atang@ftc.gov.

SUPPLEMENTARY INFORMATION: The Federal Civil Penalties Inflation Adjustment Act of 1990 (FCPIAA), as amended by the Debt Collection Improvement Act of 1996 (DCIA), 28 U.S.C. 2461 note, requires each federal agency to issue regulations adjusting civil monetary penalty amounts within its jurisdiction for inflation at least once every four years, using the June consumer price index (CPI) published by the United States Department of Labor, Bureau of Labor Statistics. The last time the Commission adjusted its civil penalties was in 1996, when it published the initial adjustments required by the Act. See 61 FR 54548 (Oct. 21, 1996), 55840 (Oct. 29, 1996) (correction); Commission Rule 1.98, 16 CFR 1.98 (inflation adjustments of civil monetary penalty amounts).

The Commission is now amending Rule 1.98 to reflect the 10.02% increase in the relevant CPI since 1996 (i.e., from 156.7 in June 1996 to 172.4 in June 2000), with the amount of each increase being rounded in accordance with section 5(a) of the FCPIAA. The Commission is also making conforming amendments to include its Recycled Oil Rule, which was inadvertently omitted from the previous adjustment. See 16 CFR 1.98(l), as amended; 16 CFR 311.6 (prohibited acts under test procedures and labeling standards for recycled oil).

Thus, the civil penalty amount for violations of Clayton Act section 7A and of rules and orders enforced under or by reference to the FTC Act will increase from $11,000 to $12,000. See amended Rule 1.98(a), (c)-(e), (m). Civil penalty amounts prescribed by Webb-Pomerence Act section 5, Wool Products Labeling Act section 6(b), Fur Products Labeling Act sections 3(e) and 8(d)(2), and Energy Policy and Conservation Act sections 333(a) (Appliance Labeling Rule) will increase from $110 to $120. See amended Rule 1.98(g)-(k). Civil penalty amounts prescribed by Clayton Act section 11(l), FTC Act section 10, and Energy Policy and Conservation Act section 525(a) and (b) (Recycled Oil Rule) will reflect comparable percentage increases. See amended Rule 1.98(b), (f), (l). These inflation adjustments will become effective November 20, 2000, and will apply to violations occurring after that date, pursuant to section 7 of the FCPIAA.

Because the Commission has no discretion in determining the relevant amounts of these mandatory adjustments, the Commission finds it unnecessary to seek public comment on them. See 5 U.S.C. 553(b)(B). The requirements of the Regulatory Flexibility Act also do not apply. See 5 U.S.C. 603, 604.

List of Subjects

16 CFR Part 1

Administrative practice and procedure, Penalties, Trade practices.

16 CFR Part 311

Energy conservation, Labeling, Recycled oil, Trade practices.

For the reasons set forth in the preamble, the Federal Trade Commission amends Title 16, chapter I, subchapters A, Part 1, and C, Part 311, of the Code of Federal Regulations as follows:

SUBCHAPTER A—ORGANIZATION, PROCEDURES AND RULES OF PRACTICE

PART 1—GENERAL PROCEDURES

Subpart L—Civil Penalty Adjustments Under the Federal Civil Penalties Inflation Adjustment Act of 1990, as Amended by the Debt Collection Improvement Act of 1996

1. Revise the authority for subpart L to read as follows:

Authority: 28 U.S.C. 2461 note.

2. Revise the heading of subpart L to read as set forth above.

(3) Revise § 1.98 to read as follows:

§ 1.98 Adjustment of civil monetary penalty amounts.

This section makes inflation adjustments in the dollar amounts of civil monetary penalties provided by law within the Commission's jurisdiction. The following civil penalty amounts apply to violations occurring after November 20, 2000:

(a) Section 7A(g)(1) of the Clayton Act, 15 U.S.C. 18a(g)(1)—$12,000;

(b) Section 11(l) of the Clayton Act, 15 U.S.C. 21(l)—$6,500;

(c) Section 5(l) of the FTC Act, 15 U.S.C. 45(l)—$12,000;

(d) Section 5(m)(1)(A) of the FTC Act, 15 U.S.C. 45(m)(1)(A)—$12,000;

(e) Section 5(m)(1)(B) of the FTC Act, 15 U.S.C. 45(m)(1)(B)—$12,000;

(f) Section 10 of the FTC Act, 15 U.S.C. 50—$120;

(g) Section 5 of the Webb-Pomerene (Export Trade) Act, 15 U.S.C. 65—$120;

(h) Section 6(b) of the Wool Products Labeling Act, 15 U.S.C. 68d(b)—$120;

(i) Section 3(e) of the Fur Products Labeling Act, 15 U.S.C. 69a(e)—$120;

(j) Section 8(d)(2) of the Fur Products Labeling Act, 15 U.S.C. 69f(d)(2)—$120;

(k) Section 333(a) of the Energy Policy and Conservation Act, 42 U.S.C. 6303(a)—$120;

(l) Sections 525(a) and (b) of the Energy Policy and Conservation Act, 42 U.S.C. 6395(a) and (b)—$6,500 and $12,000, respectively; and

(m) Civil monetary penalties authorized by reference to the Federal Trade Commission Act under any other provision of law within the jurisdiction of the Commission—refer to the amounts set forth in paragraphs (c), (d), (e) and (f) of this section, as applicable.

SUBCHAPTER C—REGULATIONS UNDER SPECIFIC ACTS OF CONGRESS

PART 311—TEST PROCEDURES AND LABELING STANDARDS FOR RECYCLED OIL

4. The authority for part 311 continues to read as follows:

Authority: 42 U.S.C. 6363(d).

5. Amend § 311.6 by revising the last sentence to read as follows:

§ 311.6 Prohibited acts.

* * * Violations will be subject to enforcement through civil penalties (as adjusted for inflation pursuant to § 1.98 of this chapter), imprisonment, and/or injunctive relief in accordance with the enforcement provisions of Section 525 of the Energy Policy and Conservation Act (42 U.S.C. 6395).

By direction of the Commission.
Donald S. Clark,
Secretary.

[FR Doc. 00-26303 Filed 10-12-00; 8:45 am]

BILLING CODE 6750-01-M